DEPARTMENT OF EDUCATION

[Docket No.: ED-2023-SCC-0145]

Agency Information Collection Activities; Comment Request; Income Driven Repayment Plan Request for the William D. Ford Federal Direct Loans and Federal Family Education Loan Programs

AGENCY: Federal Student Aid (FSA), Department of Education (ED).

ACTION: Notice.

SUMMARY: In accordance with the Paperwork Reduction Act of 1995, ED is requesting the Office of Management and Budget (OMB) to conduct an emergency review of a revision to a previously approved information collection.

DATES: The Department requested emergency processing from OMB for this information collection request on July 26, 2023. As a result, the Department is providing the public with the opportunity to comment under the full comment period. Interested persons are invited to submit comments on or before October 10, 2023.

ADDRESSES: To access and review all the documents related to the information collection listed in this notice, please use http://www.regulations.gov by searching the Docket ID number ED-2023-SCC-0145. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Beth Grebeldinger, 202-708-8242.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Income Driven Repayment Plan (IDR) Request for the William D. Ford Federal Direct Loans and Federal Family Education Loan Programs.

OMB Control Number: 1845-0102.

Type of Review: A revision of a currently approved ICR.

Respondents/Affected Public: Individuals and Households.

Total Estimated Number of Annual Responses: 9,500,000.

Total Estimated Number of Annual Burden Hours: 3,135,000.

Abstract: The Department of Education (Department) requested emergency processing for this revised information collection, 1845-0102; and therefore, is requesting the 60-day public comment period for the full ICR. The Department updated the IDR Request Form that is used by a borrower to enroll, recertify, or change their IDR plan to support the provisions identified for early implementation in the final rule published July 10, 2023, and the provisions in the FUTURE ACT related to borrower consent to use tax information for IDR participation. Specifically, the form has been updated to include a new section related to the borrower's consent to use tax information for this application and on an ongoing basis and to reflect the name change of the REPAYE Plan to the SAVE Plan. The form has also been updated to remove the need for spousal income information in the situation where a borrower files taxes separately from their spouse. This removes the need to collect the signature of the spouse as the spouse's information is no longer necessary to participate in any IDR plan. Additional updates were made to improve readability and the borrower experience.

The Department received emergency clearance on June 28, 2023, since normal processing would not enable the Department to implement the required regulatory changes by July 30, 2023, that would have resulted in several months of delays in providing eligible borrowers financial relief and not meeting the requirements of the Master Calendar. Any delay in discharging loans for eligible borrowers would have increased the potential for public harm through delayed financial relief to borrowers who have been employed in public service, and the possibility of additional interest accrual and an increase in overall debt by affected borrowers being unable to receive the relief that is allowed to them under the new regulations, causing them further financial harm. This notice allows the public to comment on the full ICR under the 60-day comment period.

Dated: August 3, 2023.
Kun Mullan,
PRA Coordinator, Strategic Collections and Clearance, Governance and Strategy Division, Office of Chief Data Officer, Office of Planning, Evaluation and Policy Development.

[FR Doc. 2023-16927 Filed 8-7-23; 8:45 am]

BILLING CODE 4000-01-P